DEPARTMENT OF COMMERCE

Bureau of Industry and Security

15 CFR Part 744

[Docket No. 160617543-6543-01]

RIN 0694-AH02

Russian Sanctions: Addition of Certain Entities to the Entity List

AGENCY: Bureau of Industry and Security, Commerce.

ACTION: Final rule.

SUMMARY: The Bureau of Industry and Security (BIS) amends the Export Administration Regulations (EAR) by adding eighty-one entities under eighty-six entries to the Entity List. The eighty-one entities who are added to the Entity List have been determined by the U.S. Government to be acting contrary to the national security or foreign policy interests of the United States. BIS is taking this action to ensure the efficacy of existing sanctions on the Russian Federation (Russia) for violating international law and fueling the conflict in eastern Ukraine. These entities will be listed on the Entity List under the destinations of the Crimea region of Ukraine, Hong Kong, India, and Russia.

DATES: This rule is effective September 7, 2016.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to Part 744 of the EAR) identifies entities and other persons reasonably believed to be involved in, or that pose a significant risk of being or becoming involved in, activities that are contrary to the national security or foreign policy of the United States. The EAR imposes additional licensing requirements on, and limits the availability of most license exceptions for, exports, reexports, and transfers (in-country) to those persons or entities listed on the Entity List. The license review policy for each listed entity is identified in the License Review Policy column on the Entity List and the impact on the availability of license exceptions is described in the Federal Register notice adding entities or other persons to the Entity List. BIS places entities on the Entity List based on certain sections of part 744 (Control Policy: End-User and End-Use Based) and part 746 (Embargoes and Other Special Controls) of the EAR.

The End-user Review Committee (ERC) is composed of representatives of the Departments of Commerce (Chair), State, Defense, Energy, and where appropriate, the Treasury. The ERC makes decisions to add an entry to the Entity List by majority vote and to remove or modify an entry by unanimous vote. The Departments represented on the ERC have approved these changes to the Entity List.

Entity List Additions

Additions to the Entity List

This rule implements the decision of the ERC to add eighty-one entities under eighty-six entries to the Entity List. These eighty-one entities are being added on the basis of § 744.11 (License requirements that apply to entities acting contrary to the national security or foreign policy interests of the United States) of the EAR. The eighty-six entries being added to the Entity List consist of seven entries in the Crimea region of Ukraine, two entries in Hong Kong, two entries in India, and seventy-five entries in Russia. There are eighty-six entries for the eighty-one entities because five entities are listed in multiple locations, resulting in five additional entries.

Under § 744.11(b) (Criteria for revising the Entity List) of the EAR, persons for whom there is reasonable cause to believe, based on specific and articulable facts, have been involved, are involved, or pose a significant risk of being or becoming involved in, activities that are contrary to the national security or foreign policy interests of the United States and those acting on behalf of such persons may be added to the Entity List. The entities being added to the Entity List have been determined to be involved in activities that are contrary to the national security or foreign policy interests of the United States. Specifically, in this rule, BIS adds entities to the Entity List for violating international law and fueling the conflict in eastern Ukraine. These additions ensure the efficacy of existing sanctions on Russia. The particular additions to the Entity List and related authorities are as follows.

A. Entity Additions Consistent With Executive Order 13660

One entity is added based on activities that are described in Executive Order 13660 (79 FR 13493), Blocking Property of Certain Persons Contributing to the Situation in Ukraine, issued by the President on March 6, 2014. As described in the Order, the President found that the actions and policies of persons who have asserted governmental authority in Crimea without the authorization of the Government of Ukraine undermine democratic processes and institutions in Ukraine; threaten its peace, security, stability, sovereignty, and territorial integrity; and contribute to the misappropriation of its assets; and thereby constitute an unusual and extraordinary threat to the national security and foreign policy of the United States. The President also declared a national emergency to deal with that threat.

Executive Order 13660 blocks all property and interests in property that are in the United States, that come within the United States, or that are or come within the possession or control of any United States person (including any foreign branch) of any person determined by the Secretary of the Treasury, in consultation with the Secretary of State, to be responsible for or complicit in, or to have engaged in, directly or indirectly, misappropriation of state assets of Ukraine or of an economically significant entity in Ukraine, among other activities. Under Section 8 of the Order, all agencies of the United States Government are directed to take all appropriate measures within their authority to carry out the provisions of the Order.

The Department of the Treasury's Office of Foreign Assets Control, pursuant to Executive Order 13660, has designated the following entity: Salvation Committee of Ukraine, as being within the scope of the Order. In conjunction with that designation, BIS adds Salvation Committee of Ukraine to the Entity List under this rule and imposes a license requirement for exports, reexports, or transfers (in-country) of all items subject to the EAR to this blocked entity. This license requirement implements an appropriate measure within the authority of the EAR to carry out the provisions of Executive Order 13660.

B. Entity Additions Consistent With Executive Order 13661

Eleven entities are added based on activities that are described in Executive Order 13661 (79 FR 15533), Blocking Property of Additional Persons Contributing to the Situation in Ukraine, issued by the President on March 16, 2014. This Order expanded the scope of the national emergency declared in Executive Order 13660, finding that the actions and policies of the Government of the Russian Federation with respect to Ukraine—including the deployment of Russian military forces in the Crimea region of Ukraine—undermine democratic processes and institutions in Ukraine; threaten its peace, security, stability, sovereignty, and territorial integrity; and contribute to the misappropriation of its assets, and thereby constitute an unusual and extraordinary threat to the national security and foreign policy of the United States.

Executive Order 13661 includes a directive that all property and interests in property that are in the United States, that hereafter come within the United States, or that are or thereafter come within the possession or control of any United States person (including any foreign branch) of the following persons are blocked and may not be transferred, paid, exported, withdrawn, or otherwise dealt in: Persons determined by the Secretary of the Treasury, in consultation with the Secretary of State to have either materially assisted, sponsored or provided financial, material or technological support for, or goods and services to or in support of a senior official of the government of the Russian Federation or to operate in the defense or related materiel sector in Russia. Under Section 8 of the Order, all agencies of the United States Government are directed to take all appropriate measures within their authority to carry out the provisions of the Order.

BIS, pursuant to Executive Order 13661, and in consultation with the Departments of State, Defense, Energy, and the Treasury, has designated the following eleven entities: Angstrem-M; Giovan Ltd.; Joint Stock Company Angstrem; Joint Stock Company Angstrem-T; Joint Stock Company Foreign Economic Association (FEA) Radioexport; Joint Stock Company Perm Scientific Industrial Instrument-Making Company (PNPPK); Joint Stock Company Mikron; Joint Stock Company Research and Production Company Micran; NPC Granat; Technopole Company; and Technopole Ltd. The eleven entities added to the Entity List under Executive Order 13661 meet the criteria of Section 1, subparagraph B of the Order because they operate in Russia's arms or related materiel sector. BIS adds all eleven of those entities to the Entity List under this rule, and imposes a license requirement for exports, reexports, or transfers (in-country) of all items subject to the EAR to these entities. This license requirement implements an appropriate measure within the authority of the EAR to carry out the provisions of Executive Order 13661.

C. Entity Additions Consistent With Executive Order 13662

Fifty-one entities are added to the Entity List based on activities that are described in Executive Order 13662 (79 FR 16169), Blocking Property of Additional Persons Contributing to the Situation in Ukraine, issued by the President on March 20, 2014. This Order expanded the scope of the national emergency declared in Executive Order 13660 of March 6, 2014 and expanded in Executive Order 13661 of March 16, 2014. Specifically, Executive Order 13662 expanded the scope to include sectors of the Russian economy as may be determined by the Secretary of the Treasury, in consultation with the Secretary of State, such as financial services, energy, metals and mining, engineering, and defense and related materiel. Under Section 8 of the Order, all agencies of the United States Government are directed to take all appropriate measures within their authority to carry out the provisions of the Order.

The Department of the Treasury's Office of Foreign Assets Control, pursuant to Executive Order 13662, on behalf of the Secretary of the Treasury, and in consultation with the Secretary of State, has designated the following fifty-one entities as operating in the energy sector of Russia and owned or controlled by, or have acted or purported to act for or on behalf of, directly or indirectly, Gazprom, OAO, a person whose property and interests are blocked pursuant to the Order: Achim Development, OOO; Daltransgaz, OAO; Druzhba, AO; Gaz-Oil, OOO; Gazmash, AO; Gazprom Dobycha Irkutsk, OOO; Gazprom Dobycha Krasnodar, OOO; Gazprom Dobycha Kuznetsk, OOO; Gazprom Dobycha Nadym, OOO; Gazprom Dobycha Noyabrsk, OOO; Gazprom Dobycha Urengoi, OOO; Gazprom Dobycha Yamburg, OOO; Gazprom Energo, OOO; Gazprom Flot, OOO; Gazprom Gaznadzor, OOO; Gazprom Gazobezopasnost, OOO; Gazprom Geologorazvedka, OOO; Gazprom Inform, OOO; Gazprom Invest, OOO; Gazprom Kapital, OOO; Gazprom Komplektatsiya, OOO; Gazprom Mezhregiongaz, OOO; Gazprom Pererabotka, OOO; Gazprom Personal, OOO; Gazprom Promgaz, AO; Gazprom Russkaya, OOO; Gazprom Sotsinvest, OOO; Gazprom Svyaz, OOO; Gazprom Telekom, OOO; Gazprom Transgaz Kazan, OOO; Gazprom Transgaz Krasnodar, OOO; Gazprom Transgaz Makhachkala, OOO; Gazprom Transgaz Nizhni Novgorod, OOO; Gazprom Transgaz Samara, OOO; Gazprom Transgaz Sankt-Peterburg, OOO; Gazprom Transgaz Saratov, OOO; Gazprom Transgaz Stavropol, OOO; Gazprom Transgaz Surgut, OOO; Gazprom Transgaz Tomsk, OOO; Gazprom Transgaz Ufa, OOO; Gazprom Transgaz Ukhta, OOO; Gazprom Transgaz Volgograd, OOO; Gazprom Transgaz Yugorsk, OOO; Gazprom Tsentrremont, OOO; Gazprom Vniigaz, OOO; Kamchatgazprom OAO; Krasnoyarskgazprom, PAO; Lazurnaya, OOO; Niigazekonomika, OOO; Vostokgazprom, OAO; and Yamalgazinvest, ZAO. In conjunction with that designation, BIS adds all fifty-one of the entities to the Entity List under this rule and imposes a license requirement for exports, reexports, or transfers (in-country) of all items subject to the EAR to these blocked persons, when the exporter, reexporter or transferor knows that the item will be used directly or indirectly in exploration for, or production of, oil or gas in Russian deepwater (greater than 500 feet) or Arctic offshore locations or shale formations in Russia, or is unable to determine whether the item will be used in such projects. All of these persons are subsidiaries of Gazprom, which was added to the Entity List on September 17, 2014 (79 FR 55608). This license requirement implements an appropriate measure within the authority of BIS to carry out the provisions of Executive Order 13662.

D. Entity Additions Consistent With Executive Order 13685

Eighteen entities are added based on activities that are described in Executive Order 13685 (79 FR 77357), Blocking Property of Certain Persons and Prohibiting Certain Transactions with Respect to the Crimea Region of Ukraine, issued by the President on December 19, 2014. This Order took additional steps to address the Russian occupation of the Crimea region of Ukraine with respect to the national emergency declared in Executive Order 13660 of March 6, 2014, and expanded in Executive Order 13661 of March 16, 2014 and Executive Order 13662 of March 20, 2014. In particular, Executive Order 13685 prohibited the export, reexport, sale or supply, directly or indirectly, from the United States or by a U.S. person, wherever located, of any goods, services, or technology to the Crimea region of Ukraine. Under Section 10 of the Order, all agencies of the United States Government are directed to take all appropriate measures within their authority to carry out the provisions of the Order.

The Department of the Treasury's Office of Foreign Assets Control, pursuant to Executive Order 13685 on behalf of the Secretary of the Treasury and in consultation with the Secretary of State, has designated the following eighteen entities as operating in the Crimea region of Ukraine: AO `Institute Giprostroymost—Saint-Petersburg'; CJSC Sovmortrans; FAU `Glavgosekspertiza Rossii'; FKU Uprdor `Taman'; Federal SUE Shipyard `Morye'; LLC Koksokhimtrans; OAO Ship Repair Center `Zvezdochka'; OJSC Sovfracht; OAO `Uranis-Radiosistemy'; OOO `DSK'; OOO Shipyard `Zaliv'; OOO `STG-EKO'; PJSC Mostotrest; SGM Most OOO; SMT-K; Sovfracht Managing Company, LLC; Sovfracht-Sovmortrans Group; and Sue RC `Feodosia Optical Plant'. In conjunction with that designation, BIS adds all eighteen of these entities to the Entity List under this rule and imposes a license requirement for exports, reexports, or transfers (in-country) of all items subject to the EAR to these blocked persons. This license requirement implements an appropriate measure within the authority of the EAR to carry out the provisions of Executive Order 13685.

For the thirty entities under thirty-five entries added to the Entity List based on activities that are described in Executive Orders 13660, 13661, or 13685, BIS imposes license requirement for all items subject to the EAR and a license review policy of presumption of denial. The license requirement applies to any transaction in which items are to be exported, reexported, or transferred (in-country) to any of the entities or in which such entities act as purchaser, intermediate consignee, ultimate consignee, or end-user.

For the fifty-one Russian subsidiaries of Gazprom, OAO, that are added to the Entity List based on activities described in Executive Order 13662, the BIS imposes a license requirement for the export, reexport or transfers (in-country) of all items subject to the EAR to those companies when the exporter, reexporter or transferor knows that the item will be used directly or indirectly in exploration for, or production of, oil or gas in Russian deepwater (greater than 500 feet) or Arctic offshore locations or shale formations in Russia, or is unable to determine whether the item will be used in such projects. License applications for the fifty-one Russian subsidiaries will be reviewed with a presumption of denial when the items are for use directly or indirectly for exploration or production from deepwater (greater than 500 feet), Arctic offshore, or shale projects in Russia that have the potential to produce oil. In addition, no license exceptions are available for exports, reexports, or transfers (in-country) to any of the entities being added to the Entity List in this rule.

The acronyms “a.k.a.” (also known as) and “f.k.a.” (formerly known as) are used in entries on the Entity List to help exporters, reexporters and transferors to better identify listed persons on the Entity List.

This final rule adds the following eighty-one entities under eighty-six entries to the Entity List:

Crimea Region of Ukraine

(1) FAU `Glavgosekspertiza Rossii', a.k.a., the following three aliases:

—Federal Autonomous Institution `Main Directorate of State Examination';

—General Board of State Expert Review; and

—Glavgosekspertiza.

13 Demidova Street, Sevastopol, Crimea, Ukraine; and 10 Vokzalnaya Street, Sevastopol, Crimea, Ukraine (See alternate address under Russia);

(2) Federal SUE Shipyard `Morye', a.k.a., the following four aliases:

—Federal State Unitary Enterprise SZ Morye;

—FSUE SZ `Morye';

—Morye Shipyard; and

—More Shipyard.

1 Desantnikov Street, Feodosia, Crimea 98176, Ukraine;

(3) OAO `Uranis-Radiosistemy', a.k.a., the following three aliases:

—OJSC `Uranis Radio Systems';

—OJSC Uranis-Radiosistemy; and

—Uranis-Radiosistemy OAO.

33 G, Vakulenchuk Street, Sevastopol, Crimea 99053, Ukraine;

(4) OAO Ship Repair Center `Zvezdochka', a.k.a., the following four aliases:

—`Zvezdochka' Shipyard;

—AO Ship Repair Center `Zvezdochka';

—Joint Stock Company Ship Repair Center `Zvezdochka'; and

—Ship Repair Center Zvezdochka.

13 Geroyev Sevastopolya Street, Sevastopol, Crimea 99001, Ukraine (See alternate address in Russia);

(5) OOO Shipyard `Zaliv' (f.k.a., AO Shipyard `Zaliv'; JSC Shipyard `Zaliv'; JSC Zaliv Shipyard; and OJSC Zaliv Shipyard), a.k.a., the following two aliases:

—LLC Shipyard `Zaliv'; and

—Zaliv Shipyard LLC.

4 Tankistov Street, Kerch, Crimea 98310, Ukraine;

(6) SMT-K, a.k.a., the following six aliases:

—Krym SMT OOO LLC;

—LLC CMT Crimea;

—OOO `CMT-K';

—OOO `SMT-K';

—SMT-Crimea; and

—Sovmortrans-Crimea.

ul. Zoi Zhiltsovoy, d. 15, office 51, Simferopol, Crimea, Ukraine; and Vokzalnoye Highway 140, Kerch, Ukraine (See Alternate address under Russia); and

(7) Sue RC `Feodosia Optical Plant', a.k.a., the following two aliases:

—Feodosia State Optical Plant; and

—State Optical Plant—Feodosia.

Feodosia State Optical Plant, 11 Moskovskaya Street, Feodosia, Crimea 98100, Ukraine.

Hong Kong

(1) Giovan Ltd., Suite 1505-6, Albion Plaza, 2-6 Granville Road, TsimShatSui, Kowloon, Hong Kong (See alternate address under India); and

(2) Technopole Ltd., Suite 1505-6, Albion Plaza, 2-6 Granville Road, TsimShatSui, Kowloon, Hong Kong (See alternate address under India).

India

(1) Giovan Ltd., C-16A, New Multan Nagar, Surya Enclave, New Rohtak Road 099 Paschim Vihar, New Delhi, India 110056 (See alternate address under Hong Kong); and

(2) Technopole Ltd., D-79, New Multan Nagar, Surya Enclave, New Rohtak Road 099 Paschim Vihar, New Delhi, India 110056 (See alternate address under Hong Kong).

Russia

(1) Achim Development, OOO, a.k.a., the following two aliases:

—Achim Development; and

—Obshchestvo S Ogranichennoi Otvetstvennostyu `Achim Development'.

d.7 ul.Promyshlennaya, Novy Urengoi, Yamalo-Nenetski a.o. 629306, Russia;

(2) Angstrem-M, Dom 4, Stroennie 3, Proezd 4806, Zelenograd, Russia 124460;

(3) AO `Institute Giprostroymost—Saint-Petersburg' (f.k.a., Institut Giprostroimost-Sankt-Peterburg, ZAO; and ZAO `Institute Giprostroymost Saint-Petersburg'), a.k.a., the following three aliases:

—AO `Institute Giprostroymost—Sankt-Peterburg';

—JSC `Institute Giprostroymost—Saint-Petersburg;' and

—JSC `Institute Giprostroymost—Sankt-Peterburg'.

7 Yablochkova Street, St. Petersburg 197198, Russia;

(4) CJSC Sovmortrans, a.k.a., the following one alias:

—Sovmortrans CJSC.

Rakhmanovskiy lane, 4, bld.1, Morskoy House, Moscow 127994, Russia;

(5) Daltransgaz, OAO, a.k.a., the following two aliases:

—Daltransgaz; and

—Otkrytoe Aktsionernoe Obshchestvo `Daltransgaz'.

d. 1 ul.Solnechnaya S. Ilinka, Khabarovski Raion Khabarovski krai 680509, Russia;

(6) Druzhba, AO, a.k.a., the following two aliases:

—Aktsionernoe Obshchestvo `Druzhba'; and

—Druzhba.

Rogozinino, Moscow 143397, Russia;

(7) FAU `Glavgosekspertiza Rossii', a.k.a., the following three aliases:

—Federal Autonomous Institution `Main Directorate of State Examination';

—General Board of State Expert Review; and

—Glavgosekspertiza.

Furkasovskiy Lane, building 6, Moscow 101000, Russia (See alternate address under Crimea region of Ukraine);

(8) FKU Uprdor `Taman', a.k.a., the following one alias:

—Federal State Institution Management of Federal Roads `Taman'.

3 Revolution Avenue, Anapa, Krasnodar 353440, Russia;

(9) Gaz-Oil, OOO (f.k.a., Zakrytoe Aktsionernoe Obshchestvo Gaz Oil), a.k.a., the following two aliases:

—Gaz-Oil; and

—Obshchestvo S Ogranichennoi Otvetstvennostyu `Gaz-Oil'.

d.10 B ul.Nametkina, Moscow 117420, Russia;

(10) Gazmash, AO (f.k.a., Dochernee Otkrytoe Aktsionernoe Obshchestvo Gazmash Otkrytogo Aktsionernogo Obshchestva Gazprom), a.k.a., the following two aliases:

—Aktsionernoe Obshchestvo `Gazmash'; and

—Gazmash.

d. 54 korp. 1 litera A pomeshch prospekt Primorski, St. Petersburg 197374, Russia;

(11) Gazprom Dobycha Irkutsk, OOO (f.k.a., Otkrytoe Aktsionernoe Obshchestvo Irkutskgazprom), a.k.a., the following two aliases:

—Gazprom Dobycha Irkutsk; and

—Obshchestvo S Ogranichennoi Otvetstvennostyu `Gazprom Dobycha Irkutsk'.

d.14 ul.Nizhnyaya Naberezhnaya, Irkutsk, Irkutskaya obl 664011, Russia;

(12) Gazprom Dobycha Krasnodar, OOO, a.k.a., the following two aliases:

—Gazprom Dobycha Krasnodar; and

—Obshchestvo S Ogranichennoi Otvetstvennostyu `Gazprom Dobycha Krasnodar'.

d.53 ul.Shosse Neftyanikov, Krasnodar, Krasnodarski krai 350051, Russia;

(13) Gazprom Dobycha Kuznetsk, OOO, a.k.a., the following two aliases:

—Gazprom Dobycha Kuznetsk; and

—Obshchestvo S Ogranichennoi Otvetstvennostyu `Gazprom Dobycha Kuznetsk'.

d.4 prospekt Oktyabrski, Kemerovo, Kemerovskaya obl 650066, Russia;

(14) Gazprom Dobycha Nadym, OOO, a.k.a., the following two aliases:

—Gazprom Dobycha Nadym; and

—Obshchestvo S Ogranichennoi Otvetstvennostyu `Gazprom Dobycha Nadym'.

d.1 ul.Zvereva, Nadym, Yamalo-Nenetski a.o. 629730, Russia;

(15) Gazprom Dobycha Noyabrsk, OOO, a.k.a., the following two aliases:

—Gazprom Dobycha Noyabrsk; and

—Obshchestvo S Ogranichennoi Otvetstvennostyu `Gazprom Dobycha Noyabrsk'.

d.20 ul. Respubliki, Noyabrsk, Yamalo-Nenetski a.o. 629802, Russia;

(16) Gazprom Dobycha Urengoi, OOO, a.k.a., the following two aliases:

—Gazprom Dobycha Urengoy; and

—Obshchestvo S Ogranichennoi Otvetstvennostyu `Gazprom Dobycha Urengoi'.

d.8 ul.Zheleznodorozhnaya, Novy Urengoi, Yamalo-Nenetski a.o. 629307, Russia;

(17) Gazprom Dobycha Yamburg, OOO, a.k.a., the following two aliases:

—Gazprom Dobycha Yamburg; and

—Obshchestvo S Ogranichennoi Otvetstvennostyu `Gazprom Dobycha Yamburg'.

d.9 ul. Geologorazvedchikov, Novy Urengoi, Yamalo-Nenetski a.o 629306, Russia;

(18) Gazprom Energo, OOO, a.k.a., the following two aliases:

—Gazprom Energo; and

—Obshchestvo S Ogranichennoi Otvetstvennostyu `Gazprom Energo'.

8 Korp. 1 ul.Stroitelei, Moscow 117939, Russia;

(19) Gazprom Flot, OOO (f.k.a., Obshchestvo S Ogranichennoi Otvetstvennostyu Gazflot), a.k.a., the following two aliases:

—Gazprom Flot; and

—Obshchestvo S Ogranichennoi Otvetstvennostyu `Gazprom Flot'.

d. 12 A ul.Nametkina, Moscow 117420, Russia;

(20) Gazprom Gaznadzor, OOO, a.k.a., the following two aliases:

—Gazprom Gaznadzor; and

—Obshchestvo S Ogranichennoi Otvetstvennostyu `Gazprom Gaznadzor'.

41 str. 1 prospekt Vernadskogo, Moscow 119415, Russia;

(21) Gazprom Gazobezopasnost, OOO, a.k.a., the following two aliases:

—Gazprom Gazobezopasnost; and

—Obshchestvo S Ogranichennoi Otvetstvennostyu `Gazprom Gazobezopasnost'.

d. 8 korp. 1 ul.Stroitelei, Moscow 119311, Russia;

(22) Gazprom Geologorazvedka, OOO (f.k.a., Obshchestvo S Ogranichennoi Otvetstvennostyu Gazprom Dobycha Krasnoyarsk), a.k.a., the following two aliases:

—Gazprom Geologorazvedka; and

—Obshchestvo S Ogranichennoi Otvetstvennostyu `Gazprom Geologorazvedka'.

d.70 ul.Gertsena, Tyumen, Tyumenskaya obl. 625000, Russia;

(23) Gazprom Inform, OOO (f.k.a., Zakrytoe Aktsionernoe Obshchestvo Informgazinvest), a.k.a., the following two aliases:

—Gazprom Inform; and

—Obshchestvo S Ogranichennoi Otvetstvennostyu `Gazprom Inform'.

d. 13 str. 3 ul.Bolshaya Cheremushkinskaya, Moscow 117447, Russia;

(24) Gazprom Invest, OOO, a.k.a., the following two aliases:

—Gazprom Invest; and

—Obshchestvo S Ogranichennoi Otvetstvennostyu `Gazprom Invest'.

d. 6 litera D ul.Startovaya, St. Petersburg 196210, Russia;

(25) Gazprom Kapital, OOO (f.k.a., Obshchestvo S Ogranichennoi Otvetstvennostyu Kap Infin), a.k.a., the following two aliases:

—Gazprom Kapital; and

—Obshchestvo S Ogranichennoi Otvetstvennostyu `Gazprom Kapital'.

Sosenskoe Pos, Pos. Gazoprovod, D. 101 Korp. 9, Moscow 142770, Russia;

(26) Gazprom Komplektatsiya, OOO, a.k.a., the following two aliases:

—Gazprom Komplektatsiya; and

—Obshchestvo S Ogranichennoi Otvetstvennostyu `Gazprom Komplektatsiya'.

8 Korp. 1 ul.Stroitelei, Moscow 119991, Russia;

(27) Gazprom Mezhregiongaz, OOO, a.k.a., the following two aliases:

—Gazprom Mezhregiongaz; and

—Obshchestvo S Ogranichennoi Otvetstvennostyu `Gazprom Mezhregiongaz'.

d. Dom 24 korp. Liter A nab.Admirala Lazareva, St. Petersburg 197110, Russia;

(28) Gazprom Pererabotka, OOO, a.k.a., the following two aliases:

—Gazprom Pererabotka; and

—Obshchestvo S Ogranichennoi Otvetstvennostyu `Gazprom Pererabotka'.

d.16 ul.Ostrovskogo, Surgut, Khanty-Mansiski Avtonomny okrug—Yugra a.o. 628417, Russia;

(29) Gazprom Personal, OOO, a.k.a., the following two aliases:

—Gazprom Personal; and

—Obshchestvo S Ogranichennoi Otvetstvennostyu `Gazprom Personal'.

16, Gsp-7 ul.Nametkina, Moscow 117997, Russia;

(30) Gazprom Promgaz, AO (f.k.a., Otkrytoe Aktsionernoe Obshchestvo Gazprom Promgaz), a.k.a., the following two aliases:

—Aktsionernoe Obshchestvo `Gazprom Promgaz' and

—Gazprom Promgaz.

d. 6 ul.Nametkina, Moscow 117420, Russia;

(31) Gazprom Russkaya, OOO (f.k.a., Obshchestvo S Ogranichennoi Otvetstvennostyu Kovyktneftegaz), a.k.a., the following two aliases:

—Gazprom Russkaya; and

—Obshchestvo S Ogranichennoi Otvetstvennostyu `Gazprom Russkaya'.

3 korp.2 ul.Varshavskaya, St. Petersburg 196128, Russia;

(32) Gazprom Sotsinvest, OOO (f.k.a., Gazprominvestarena OOO), a.k.a., the following two aliases:

—Gazprom Sotsinvest; and

—Obshchestvo S Ogranichennoi Otvetstvennostyu `Gazprom Sotsinvest'.

d. 20 litera A nab.Aptekarskaya, St. Petersburg 197022, Russia;

(33) Gazprom Svyaz, OOO, a.k.a., the following two aliases:

—Gazprom Svyaz; and

—Obshchestvo S Ogranichennoi Otvetstvennostyu `Gazprom Svyaz'.

d.16 ul.Nametkina, Moscow 117997, Russia;

(34) Gazprom Telekom, OOO (f.k.a., Zakrytoe Aktsionernoe Obshchestvo Gaztelekom), a.k.a., the following two aliases:

—Gazprom Telecom; and

—Obshchestvo S Ogranichennoi Otvetstvennostyu `Gazprom Telekom'.

d. 62 str. 2 shosse Starokaluzhskoe, Moscow 117630, Russia;

(35) Gazprom Transgaz Kazan, OOO, a.k.a., the following two aliases:

—Gazprom Transgaz Kazan; and

—Obshchestvo S Ogranichennoi Otvetstvennostyu `Gazprom Transgaz Kazan'.

d.41 ul.Adelya Kutuya, Kazan, Tatarstan resp 420073, Russia;

(36) Gazprom Transgaz Krasnodar, OOO, a.k.a., the following two aliases:

—Gazprom Transgaz Krasnodar; and

—Obshchestvo S Ogranichennoi Otvetstvennostyu `Gazprom Transgaz Krasnodar'.

d.36 ul.Im Dzerzhinskogo, Krasnodar, Krasnodarski krai 350051, Russia;

(37) Gazprom Transgaz Makhachkala, OOO (f.k.a., Obshchestvo S Ogranichennoi Otvetstvennostyu Gazprom Transgaz Makhachkala), a.k.a., the following two aliases:

—Gazprom Transgaz Makhachkala; and

—Obshchestvo S Ogranichennoi Otvetstvennostyu `Gazprom Transgaz Makhachkala'.

ul.O.Bulacha, Makhachkala, Dagestan resp. 367030, Russia;

(38) Gazprom Transgaz Nizhni Novgorod, OOO, a.k.a., the following two aliases:

—Gazprom Transgaz Nizhny Novgorod; and

—Obshchestvo S Ogranichennoi Otvetstvennostyu `Gazprom Transgaz Nizhni Novgorod'.

d.11 ul.Zvezdinka, Nizhni Novgorod, Nizhegorodskaya obl. 603950, Russia;

(39) Gazprom Transgaz Samara, OOO, a.k.a., the following two aliases:

—Gazprom Transgaz Samara; and

—Obshchestvo S Ogranichennoi Otvetstvennostyu `Gazprom Transgaz Samara'.

d. 106 A str. 1 ul.Novo-Sadovaya, Samara, Samarskaya obl. 443068, Russia;

(40) Gazprom Transgaz Sankt-Peterburg, OOO, a.k.a., the following two aliases:

—Gazprom Transgaz Saint Petersburg; and

—Obshchestvo S Ogranichennoi Otvetstvennostyu `Gazprom Transgaz Sankt-Peterburg'.

3 korp.2 ul.Varshavskaya, St. Petersburg 196128, Russia;

(41) Gazprom Transgaz Saratov, OOO, a.k.a., the following two aliases:

—Gazprom Transgaz Saratov; and

—Obshchestvo S Ogranichennoi Otvetstvennostyu `Gazprom Transgaz Saratov'.

d.118 A prospekt Im 50 Let Oktyabrya, Saratov, Saratovskaya obl. 410052, Russia;

(42) Gazprom Transgaz Stavropol, OOO, a.k.a., the following two aliases:

—Gazprom Transgaz Stavropol; and

—Obshchestvo S Ogranichennoi Otvetstvennostyu `Gazprom Transgaz Stavropol'.

d.6 prospekt Oktyabrskoi Revolyutsii, Stavropol, Stavropolski krai 355000, Russia;

(43) Gazprom Transgaz Surgut, OOO, a.k.a., the following two aliases:

—Gazprom Transgaz Surgut; and

—Obshchestvo S Ogranichennoi Otvetstvennostyu `Gazprom Transgaz Surgut'.

d.1 ul.Universitetskaya, Surgut, Khanty-Mansiski Avtonomny okrug—Yugra a.o. 628406, Russia;

(44) Gazprom Transgaz Tomsk, OOO, a.k.a., the following two aliases:

—Gazprom Transgaz Tomsk; and

—Obshchestvo S Ogranichennoi Otvetstvennostyu `Gazprom Transgaz Tomsk'.

d.9 prospekt Frunze, Tomsk, Tomskaya obl. 634029, Russia;

(45) Gazprom Transgaz Ufa, OOO, a.k.a., the following two aliases:

—Gazprom Transgaz Ufa (f.k.a., Obshchestvo S Ogranichennoi Otvetstvennostyu Bashtransgaz Otkrytogo Aktsionernogo Obshchestva Gazprom); and

—Obshchestvo S Ogranichennoi Otvetstvennostyu `Gazprom Transgaz UFA'.

59 ul.Rikharda Zorge, Ufa, Bashkortostan resp. 450054, Russia;

(46) Gazprom Transgaz Ukhta, OOO, a.k.a., the following two aliases:

—Gazprom Transgaz Ukhta; and

—Obshchestvo S Ogranichennoi Otvetstvennostyu `Gazprom Transgaz Ukhta'.

d.39/2 prospekt Lenina, Ukhta, Komi resp 169312, Russia;

(47) Gazprom Transgaz Volgograd, OOO, a.k.a., the following two aliases:

—Gazprom Transgaz Volgograd; and

—Obshchestvo S Ogranichennoi Otvetstvennostyu `Gazprom Transgaz Volgograd'.

58 ul.Raboche-Krestyanskaya, Volgograd, Volgogradskaya obl. 400074, Russia;

(48) Gazprom Transgaz Yugorsk, OOO (f.k.a., Obshchestvo S Ogranichennoi Otvetstvennostyu Tyumentransgaz), a.k.a., the following two aliases:

—Gazprom Transgaz Yugorsk; and

—Obshchestvo S Ogranichennoi Otvetstvennostyu `Gazprom Transgaz Yugorsk'.

d.15 ul.Mira, Yugorsk, Khanty-Mansiski Avtonomny okrug, Yugra a.o. 628260, Russia;

(49) Gazprom Tsentrremont, OOO, a.k.a., the following two aliases:

—Gazprom Tsentrremont; and

—Obshchestvo S Ogranichennoi Otvetstvennostyu `Gazprom Tsentrremont'.

d.1 ul.Moskovskaya, Shchelkovo, Moskovskaya obl 141112, Russia;

(50) Gazprom Vniigaz, OOO, a.k.a., the following two aliases:

—Gazprom Vniigaz; and

—Obshchestvo S Ogranichennoi Otvetstvennostyu `Nauchno-Issledovatelski Institut Prirodnykh Gazov I Gazovykh Tekhnologi—Gazprom Vniigaz'.

P Razvilka, Leninski Raion, Moskovskaya obl. 142717, Russia;

(51) Joint Stock Company Angstrem,

Dom 4, Stroennie 3, Proezd 4806, Zelenograd, Russia 124460;

(52) Joint Stock Company Angstrem-T, Dom 7, Georgievskiy Prospekt, Zelenograd, Russia 124460;

(53) Joint Stock Company Foreign Economic Association (FEA) Radioexport, 8 Ukrainksi Boulevard, Moscow, Russia 121059;

(54) Joint Stock Company Mikron, a.k.a., the following one alias:

—NIIME and Mikron.

1st Zapadny Proezd 12/1, Zelenograd, Russia 124460;

(55) Joint Stock Company Perm Scientific Industrial Instrument-Making Company (PNPPK), 25th of October Street, Number 106, Perm, Russia 614990;

(56) Joint Stock Company Research and Production Company Micran, 51d Kirova Street, Tomsk, Russia 634041; and 2/5/4 Building 3 Slavyanskaya Square, Moscow, Russia 109074;

(57) Kamchatgazprom, OAO, a.k.a., the following two aliases:

—Kamchatgazprom; and

—Otkrytoe Aktsionernoe Obshchestvo `Kamchatgazprom'.

d.19 ul.Pogranichnaya, Petropavlovsk-Kamchatski, Kamchatski krai 683032, Russia;

(58) Krasnoyarskgazprom, PAO, a.k.a., the following two aliases:

—Krasnoyarskgazprom; and

—Publichnoe Aktsionernoe Obshchestvo `Krasnoyarskgazprom'.

d.1 pl.Akademika Kurchatova, Moscow 123182, Russia;

(59) Lazurnaya, OOO, a.k.a., the following two aliases:

—Obshchestvo S Ogranichennoi Otvetstvennostyu `Lazurnaya'; and

—“Lazurnaya”.

d.103 prospekt Kurortny, Sochi, Krasnodarski krai 354024, Russia;

(60) LLC Koksokhimtrans, a.k.a., the following one alias:

—Koksokhimtrans Ltd.

Rakhmanovskiy lane, 4, bld.1, Morskoy House, Moscow 127994, Russia;

(61) Niigazekonomika, OOO, a.k.a., the following two aliases:

—Niigazeconomika; and

—Obshchestvo S Ogranichennoi Otvetstvennostyu `Nauchnoissledovatelski Institut Ekonomiki I Organizatsii Upravleniya V Gazovoipromyshlennosti'.

d. 20 korp. 8 ul. Staraya Basmannaya, Moscow 107066, Russia;

(62) NPC Granat, 22 Polytechnicheskaya Street, Saint Petersburg, Russia 194021;

(63) OAO Ship Repair Center `Zvezdochka', a.k.a., the following four aliases:

—`Zvezdochka' Shipyard;

—AO Ship Repair Center `Zvezdochka';

—Joint Stock Company Ship Repair Center `Zvezdochka'; and

—Ship Repair Center Zvezdochka.

12, proyezd Mashinostroiteley, Severodvinsk, Arkhangelskaya Oblast 164509, Russia (See alternate address in Crimea region of Ukraine).

(64) OJSC Sovfracht, a.k.a., the following three aliases:

—PJSC `Sovfracht';

—Sovfracht JSC; and

—Sovfrakht.

Rakhmanovskiy lane, 4, bld.1, Morskoy House, Moscow 127994, Russia;

(65) OOO `DSK', a.k.a., the following one alias:

—OOO `Dorozhnaya Stroitelnaya Kompania'.

Stroitelnaya Street, 34, village of Kesova Gora, Tver Oblast 171470, Russia;

(66) OOO `STG-EKO', a.k.a., the following one alias:

—`STG-EKO' LLC.

Street Zastavskaya Building 22, Part A, Saint Petersburg 196084, Russia;

(67) PJSC Mostotrest, a.k.a., the following four aliases:

—Mostotrest;

—Mostotrest, PAO;

—Open Joint Stock Company `Mostotrest'; and

—Public Joint Stock Company Mostotrest.

6 Barklaya str., bld. 5, Moscow 121087, Russia; and d. 6 str. 5, ul. Barklaya, Moscow 121087, Russia;

(68) Salvation Committee of Ukraine, a.k.a., the following three aliases:

—Committee for the Rescue of Ukraine;

—Savior of Ukraine Committee; and

—Ukraine Salvation Committee.

Russia;

(69) SGM Most OOO (f.k.a., Obshchestvo S Ogranichennoi Otvetstvennostyu SGM Most), a.k.a., the following three aliases:

—Obshchestvo S Ogranichennoi Otvetstvennostyu `SGM-Most';

—SGM-Bridge; and

—SGM-Most, LLC.

d. 10 korp. 3 ul. Neverovskogo, Moscow 121170, Russia;

(70) SMT-K, a.k.a., the following six aliases:

—KRYM SMT OOO LLC;

—LLC CMT Crimea;

—OOO `CMT-K';

—OOO `SMT-K';

—SMT-Crimea; and

—Sovmortrans-Crimea.

Anapskoye Highway 1, Temryuk, Russia (See alternate address under Crimea region of Ukraine);

(71) Sovfracht Managing Company, LLC, a.k.a., the following four aliases:

—LLC Sovfracht Management Company;

—Management Company Sovfrakht Ltd.;

—Sovfracht Management Company; and

—Sovfracht Management Company, LLC.

Dobroslobodskaya, 3 BC Basmanov, Moscow 105066, Russia.

(72) Sovfracht-Sovmortrans Group, a.k.a., the following two aliases:

—Sovfracht-Sovmortrans; and

—Sovfrakht-Sovmortrans.

Rakhmanovskiy lane, 4, bld.1, Morskoy House, Moscow 127994, Russia; and Dobroslobodskaya, 3 BC Basmanov, Moscow 105066, Russia.

(73) Technopole Company, 5-183 Entuziastov Street, Dubna, Moscow Region, Russia 141980; and 12 Aviamotornaya Street, Moscow, Russia 111024;

(74) Vostokgazprom, OAO, a.k.a., the following two aliases:

—Otkrytoe Aktsionernoe Obshchestvo `Vostokgazprom'; and

—Vostokgazprom.

d.73 ul.Bolshaya Podgornaya, Tomsk, Tomskaya obl. 634009, Russia; and

(75) Yamalgazinvest, ZAO, a.k.a., the following two aliases:

—Yamalgazinvest; and

—Zakrytoe Aktsionernoe Obshchestvo `Yamalgazinvest'.

d. 41 korp. 1 prospekt Vernadskogo, Moscow 117415, Russia.

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 4, 2016, 81 FR 52587 (August 8, 2016), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the entities being added to the Entity List. If this rule were delayed to allow for notice and comment and a delay in effective date, then the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

For the reasons stated in the preamble, the Bureau of Industry and Security amends part 744 of the Export Administration Regulations (15 CFR parts 730-774) as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2015, 80 FR 57281 (September 22, 2015); Notice of November 12, 2015, 80 FR 70667 (November 13, 2015); Notice of January 20, 2016, 81 FR 3937 (January 22, 2016); Notice of August 4, 2016, 81 FR 52587 (August 8, 2016).

2. Supplement No. 4 to part 744 is amended:

a. By adding under the destination of Crimea region of Ukraine, in alphabetical order, seven entities;

b. By adding under the destination of Hong Kong, in alphabetical order, two Hong Kong entities;

c. By adding under the destination of India, in alphabetical order, two Indian entities; and

d. By adding under the destination of Russia, in alphabetical order, seventy-five Russian entities.

The additions read as follows:

Supplement No. 4 to Part 744—Entity List

* * * * *

Country | Entity | License requirement | License review policy | Federal Register citation
* * * * * * *
CRIMEA REGION OF UKRAINE | * * * * * *
| FAU `Glavgosekspertiza Rossii', a.k.a., the following three aliases: —Federal Autonomous Institution `Main Directorate of State Examination'; | For all items subject to the EAR. (See § 744.11 of the EAR) | Presumption of denial | 81 FR [INSERT FR PAGE NUMBER] September 7, 2016.
| —General Board of State Expert Review; and
| —Glavgosekspertiza. 13 Demidova Street, Sevastopol, Crimea, Ukraine; and 10 Vokzalnaya Street, Sevastopol, Crimea, Ukraine (See alternate address under Russia).
| Federal SUE Shipyard `Morye', a.k.a., the following four aliases: —Federal State Unitary Enterprise SZ Morye; —FSUE SZ `Morye'; —Morye Shipyard; and | For all items subject to the EAR. (See § 744.11 of the EAR) | Presumption of denial | 81 FR [INSERT FR PAGE NUMBER] September 7, 2016.
| —More Shipyard. 1 Desantnikov Street, Feodosia, Crimea 98176, Ukraine
| * * * * * *
| OAO `Uranis-Radiosistemy', a.k.a., the following three aliases: —OJSC `Uranis Radio Systems'; —OJSC Uranis-Radiosistemy; and —Uranis-Radiosistemy OAO. 33 G, Vakulenchuk Street, Sevastopol, Crimea 99053, Ukraine. | For all items subject to the EAR. (See § 744.11 of the EAR) | Presumption of denial | 81 FR [INSERT FR PAGE NUMBER] September 7, 2016.
| OAO Ship Repair Center `Zvezdochka', a.k.a., the following four aliases: —`Zvezdochka' Shipyard; —AO Ship Repair Center `Zvezdochka'; | For all items subject to the EAR. (See § 744.11 of the EAR) | Presumption of denial | 81 FR [INSERT FR PAGE NUMBER] September 7, 2016.
| —Joint Stock Company Ship Repair Center `Zvezdochka;' and
| —Ship Repair Center Zvezdochka. 13 Geroyev Sevastopolya Street, Sevastopol, Crimea 99001, Ukraine (See alternate address in Russia).
| OOO Shipyard `Zaliv' (f.k.a., AO Shipyard `Zaliv'; JSC Shipyard `Zaliv;' JSC Zaliv Shipyard; and OJSC ZALIV SHIPYARD), a.k.a., the following two aliases: | For all items subject to the EAR. (See § 744.11 of the EAR) | Presumption of denial | 81 FR [INSERT FR PAGE NUMBER] September 7, 2016.
| —LLC Shipyard `Zaliv'; and
| —Zaliv Shipyard LLC. 4 Tankistov Street, Kerch, Crimea 98310, Ukraine
| * * * * * *
| SMT-K, a.k.a., the following six aliases: —Krym SMT OOO LLC; —LLC CMT Crimea; —OOO `CMT-K'; | For all items subject to the EAR. (See § 744.11 of the EAR) | Presumption of denial | 81 FR [INSERT FR PAGE NUMBER] September 7, 2016.
| —OOO `SMT-K';
| —SMT-Crimea; and
| —Sovmortrans-Crimea. ul. Zoi Zhiltsovoy, d. 15, office 51, Simferopol, Crimea, Ukraine (See Alternate address under Russia)
| * * * * * *
| Sue RC `Feodosia Optical Plant', a.k.a., the following two aliases: —Feodosia State Optical Plant; and —State Optical Plant—Feodosia. Feodosia State Optical Plant, 11 Moskovskaya Street, Feodosia, Crimea 98100, Ukraine. | For all items subject to the EAR. (See § 744.11 of the EAR) | Presumption of denial | 81 FR [INSERT FR PAGE NUMBER] September 7, 2016.
* * * * * * *
HONG KONG | * * * * * *
| Giovan Ltd., Suite 1505-6, Albion Plaza, 2-6 Granville Road, TsimShatSui, Kowloon, Hong Kong (See alternate address under India). | For all items subject to the EAR. (See § 744.11 of the EAR) | Presumption of denial | 81 FR [INSERT FR PAGE NUMBER] September 7, 2016.
| * * * * * *
| Technopole Ltd., Suite 1505-6, Albion Plaza, 2-6 Granville Road, TsimShatSui, Kowloon, Hong Kong (See alternate address under India). | For all items subject to the EAR. (See § 744.11 of the EAR) | Presumption of denial | 81 FR [INSERT FR PAGE NUMBER] September 7, 2016.
| * * * * * *
INDIA | * * * * * *
| Giovan Ltd., C-16A, New Multan Nagar, Surya Enclave, New Rohtak Road 099 Paschim Vihar, New Delhi, India 110056 (See alternate address under Hong Kong). | For all items subject to the EAR. (See § 744.11 of the EAR) | Presumption of denial | 81 FR [INSERT FR PAGE NUMBER] September 7, 2016.
| Technopole Ltd., D-79, New Multan Nagar, Surya Enclave, New Rohtak Road 099 Paschim Vihar, New Delhi, India 110056 (See alternate address under Hong Kong). | For all items subject to the EAR. (See § 744.11 of the EAR) | Presumption of denial | 81 FR [INSERT FR PAGE NUMBER] September 7, 2016.
* * * * * * *
RUSSIA | * * * * * *
| Achim Development, OOO, a.k.a., the following two aliases: —Achim Development; and —Obshchestvo S Ogranichennoi Otvetstvennostyu `Achim Development'. d.7 ul.Promyshlennaya, Novy Urengoi, Yamalo-Nenetski a.o. 629306, Russia. | For all items subject to the EAR when used in projects specified in § 746.5 of the EAR | See § 746.5(b) of the EAR | 81 FR [INSERT FR PAGE NUMBER] September 7, 2016.
| * * * * * *
| Angstrem-M, Dom 4, Stroennie 3, Proezd 4806, Zelenograd, Russia 124460. | For all items subject to the EAR. (See § 744.11 of the EAR) | Presumption of denial | 81 FR [INSERT FR PAGE NUMBER] September 7, 2016.
| * * * * * *
| AO `Institute Giprostroymost—Saint-Petersburg' (f.k.a., Institut Giprostroimost-Sankt-Peterburg, ZAO; and ZAO `Institute Giprostroymost Saint-Petersburg'), a.k.a., the following three aliases: | For all items subject to the EAR. (See § 744.11 of the EAR) | Presumption of denial | 81 FR [INSERT FR PAGE NUMBER] September 7, 2016.
| —AO `Institute Giprostroymost—Sankt-Peterburg';
| —JSC `Institute Giprostroymost—Saint-Petersburg'; and
| —JSC `Institute Giprostroymost—Sankt-Peterburg'. 7 Yablochkova Street, St. Petersburg 197198, Russia.
| * * * * * *
| CJSC Sovmortrans, a.k.a., the following one alias: —Sovmortrans CJSC. Rakhmanovskiy lane, 4, bld.1, Morskoy House, Moscow 127994, Russia. | For all items subject to the EAR. (See § 744.11 of the EAR) | Presumption of denial | 81 FR [INSERT FR PAGE NUMBER] September 7, 2016.
| * * * * * *
| Daltransgaz, OAO, a.k.a., the following two aliases: —Daltransgaz; and —Otkrytoe Aktsionernoe Obshchestvo `Daltransgaz'. d. 1 ul.Solnechnaya S. Ilinka, Khabarovski Raion Khabarovski krai 680509, Russia. | For all items subject to the EAR when used in projects specified in § 746.5 of the EAR | See § 746.5(b) of the EAR | 81 FR [INSERT FR PAGE NUMBER] September 7, 2016.
| * * * * * *
| Druzhba, AO, a.k.a., the following two aliases: —Aktsionernoe Obshchestvo `Druzhba'; and —Druzhba. Rogozinino, Moscow 143397, Russia. | For all items subject to the EAR when used in projects specified in § 746.5 of the EAR | See § 746.5(b) of the EAR | 81 FR [INSERT FR PAGE NUMBER] September 7, 2016.
| * * * * * *
| FAU `Glavgosekspertiza Rossii', a.k.a., the following three aliases: —Federal Autonomous Institution `Main Directorate of State Examination'; —General Board of State Expert Review; and —Glavgosekspertiza. Furkasovskiy Lane, building 6, Moscow 101000, Russia (See alternate address under Crimea region of Ukraine) | For all items subject to the EAR. (See § 744.11 of the EAR) | Presumption of denial | 81 FR [INSERT FR PAGE NUMBER] September 7, 2016.
| * * * * * *
| FKU Uprdor `Taman', a.k.a., the following one alias: —Federal State Institution Management of Federal Roads `Taman'. 3 Revolution Avenue, Anapa, Krasnodar 353440, Russia. | For all items subject to the EAR. (See § 744.11 of the EAR) | Presumption of denial | 81 FR [INSERT FR PAGE NUMBER] September 7, 2016.
| * * * * * *
| Gaz-Oil, OOO (f.k.a., Zakrytoe Aktsionernoe Obshchestvo Gaz Oil), a.k.a., the following two aliases: —Gaz-Oil; and —Obshchestvo S Ogranichennoi Otvetstvennostyu `Gaz-Oil'. d.10 B ul.Nametkina, Moscow 117420, Russia. | For all items subject to the EAR when used in projects specified in § 746.5 of the EAR | See § 746.5(b) of the EAR | 81 FR [INSERT FR PAGE NUMBER] September 7, 2016.
| Gazmash, AO (f.k.a., Dochernee Otkrytoe Aktsionernoe Obshchestvo Gazmash Otkrytogo Aktsionernogo Obshchestva Gazprom), a.k.a., the following two aliases: —Aktsionernoe Obshchestvo `Gazmash'; and —Gazmash. d. 54 korp. 1 litera A pomeshch prospekt Primorski, St. Petersburg 197374, Russia. | For all items subject to the EAR. (See § 744.11 of the EAR) | Presumption of denial | 81 FR [INSERT FR PAGE NUMBER] September 7, 2016.
| Gazprom Dobycha Irkutsk, OOO (f.k.a., Otkrytoe Aktsionernoe Obshchestvo Irkutskgazprom), a.k.a., the following two aliases: —Gazprom Dobycha Irkutsk; and —Obshchestvo S Ogranichennoi Otvetstvennostyu `Gazprom Dobycha Irkutsk'. d.14 ul.Nizhnyaya Naberezhnaya, Irkutsk, Irkutskaya obl 664011, Russia. | For all items subject to the EAR when used in projects specified in § 746.5 of the EAR | See § 746.5(b) of the EAR | 81 FR [INSERT FR PAGE NUMBER] September 7, 2016.
| Gazprom Dobycha Krasnodar, OOO, a.k.a., the following two aliases: —Gazprom Dobycha Krasnodar; and —Obshchestvo S Ogranichennoi Otvetstvennostyu `Gazprom Dobycha Krasnodar'. d.53 ul.Shosse Neftyanikov, Krasnodar, Krasnodarski krai 350051, Russia. | For all items subject to the EAR when used in projects specified in § 746.5 of the EAR | See § 746.5(b) of the EAR | 81 FR [INSERT FR PAGE NUMBER] September 7, 2016.
| Gazprom Dobycha Kuznetsk, OOO, a.k.a., the following two aliases: —Gazprom Dobycha Kuznetsk; and —Obshchestvo S Ogranichennoi Otvetstvennostyu `Gazprom Dobycha Kuznetsk'. d.4 prospekt Oktyabrski, Kemerovo, Kemerovskaya obl 650066, Russia. | For all items subject to the EAR when used in projects specified in § 746.5 of the EAR | See § 746.5(b) of the EAR | 81 FR [INSERT FR PAGE NUMBER] September 7, 2016.
| Gazprom Dobycha Nadym, OOO, a.k.a., the following two aliases: —Gazprom Dobycha Nadym; and —Obshchestvo S Ogranichennoi Otvetstvennostyu `Gazprom Dobycha Nadym'. d.1 ul.Zvereva, Nadym, Yamalo-Nenetski a.o. 629730, Russia. | For all items subject to the EAR when used in projects specified in § 746.5 of the EAR | See § 746.5(b) of the EAR | 81 FR [INSERT FR PAGE NUMBER] September 7, 2016.
| Gazprom Dobycha Noyabrsk, OOO, a.k.a., the following two aliases: —Gazprom Dobycha Noyabrsk; and —Obshchestvo S Ogranichennoi Otvetstvennostyu `Gazprom Dobycha Noyabrsk'. d.20 ul. Respubliki, Noyabrsk, Yamalo-Nenetski a.o. 629802, Russia. | For all items subject to the EAR when used in projects specified in § 746.5 of the EAR | See § 746.5(b) of the EAR | 81 FR [INSERT FR PAGE NUMBER] September 7, 2016.
| Gazprom Dobycha Urengoi, OOO, a.k.a., the following two aliases: —Gazprom Dobycha Urengoy; and —Obshchestvo S Ogranichennoi Otvetstvennostyu `Gazprom Dobycha Urengoi'. d.8 ul.Zheleznodorozhnaya, Novy Urengoi, Yamalo-Nenetski a.o. 629307, Russia. | For all items subject to the EAR when used in projects specified in § 746.5 of the EAR | See § 746.5(b) of the EAR | 81 FR [INSERT FR PAGE NUMBER] September 7, 2016
| Gazprom Dobycha Yamburg,OOO, a.k.a., the following two aliases:
| —Gazprom Dobycha Yamburg; and
| —Obshchestvo S Ogranichennoi Otvetstvennostyu `Gazprom Dobycha Yamburg'. d.9 ul. Geologorazvedchikov, Novy Urengoi, Yamalo-Nenetski a.o 629306, Russia. | For all items subject to the EAR when used in projects specified in § 746.5 of the EAR | See § 746.5(b) of the EAR | 81 FR [INSERT FR PAGE NUMBER] September 7, 2016.
| Gazprom Energo, OOO, a.k.a., the following two aliases: —Gazprom Energo; and —Obshchestvo S Ogranichennoi Otvetstvennostyu `Gazprom Energo'. 8 Korp. 1 ul.Stroitelei, Moscow 117939, Russia. | For all items subject to the EAR when used in projects specified in § 746.5 of the EAR | See § 746.5(b) of the EAR | 81 FR [INSERT FR PAGE NUMBER] September 7, 2016.
| Gazprom Flot, OOO (f.k.a., Obshchestvo S Ogranichennoi Otvetstvennostyu Gazflot), a.k.a., the following two aliases: —Gazprom Flot; and —Obshchestvo S Ogranichennoi Otvetstvennostyu `Gazprom Flot'. d. 12 A ul.Nametkina, Moscow 117420, Russia. | For all items subject to the EAR when used in projects specified in § 746.5 of the EAR | See § 746.5(b) of the EAR | 81 FR [INSERT FR PAGE NUMBER] September 7, 2016.
| Gazprom Gaznadzor, OOO, a.k.a., the following two aliases: —Gazprom Gaznadzor; and —Obshchestvo S Ogranichennoi Otvetstvennostyu `Gazprom Gaznadzor'. 41 str. 1 prospekt Vernadskogo, Moscow 119415, Russia. | For all items subject to the EAR when used in projects specified in § 746.5 of the EAR | See § 746.5(b) of the EAR | 81 FR [INSERT FR PAGE NUMBER] September 7, 2016.
| Gazprom Gazobezopasnost, OOO, a.k.a., the following two aliases: —Gazprom Gazobezopasnost; and —Obshchestvo S Ogranichennoi Otvetstvennostyu `Gazprom Gazobezopasnost'. d. 8 korp. 1 ul.Stroitelei, Moscow 119311, Russia. | For all items subject to the EAR when used in projects specified in § 746.5 of the EAR | See § 746.5(b) of the EAR | 81 FR [INSERT FR PAGE NUMBER] September 7, 2016.
| Gazprom Geologorazvedka, OOO (f.k.a., Obshchestvo S Ogranichennoi Otvetstvennostyu Gazprom Dobycha Krasnoyarsk), a.k.a., the following two aliases: —Gazprom Geologorazvedka; and | For all items subject to the EAR when used in projects specified in § 746.5 of the EAR | See § 746.5(b) of the EAR | 81 FR [INSERT FR PAGE NUMBER] September 7, 2016.
| —Obshchestvo S Ogranichennoi Otvetstvennostyu `Gazprom Geologorazvedka'. d.70 ul.Gertsena, Tyumen, Tyumenskaya obl. 625000, Russia.
| Gazprom Inform, OOO (f.k.a., Zakrytoe Aktsionernoe Obshchestvo Informgazinvest), a.k.a., the following two aliases: —Gazprom Inform; and —Obshchestvo S Ogranichennoi Otvetstvennostyu `Gazprom Inform'. d. 13 str. 3 ul.Bolshaya Cheremushkinskaya, Moscow 117447, Russia. | For all items subject to the EAR when used in projects specified in § 746.5 of the EAR | See § 746.5(b) of the EAR | 81 FR [INSERT FR PAGE NUMBER] September 7, 2016.
| Gazprom Invest, OOO, a.k.a., the following two aliases: —Gazprom Invest; and —Obshchestvo S Ogranichennoi Otvetstvennostyu `Gazprom Invest'. d. 6 litera D ul.Startovaya, St. Petersburg 196210, Russia. | For all items subject to the EAR when used in projects specified in § 746.5 of the EAR | See § 746.5(b) of the EAR | 81 FR [INSERT FR PAGE NUMBER] September 7, 2016.
| Gazprom Kapital, OOO (f.k.a., Obshchestvo S Ogranichennoi Otvetstvennostyu Kap Infin), a.k.a., the following two aliases: —Gazprom Kapital; and —Obshchestvo S Ogranichennoi Otvetstvennostyu `Gazprom Kapital'. Sosenskoe Pos, Pos. Gazoprovod, D. 101 Korp. 9, Moscow 142770, Russia. | For all items subject to the EAR when used in projects specified in § 746.5 of the EAR | See § 746.5(b) of the EAR | 81 FR [INSERT FR PAGE NUMBER] September 7, 2016.
| Gazprom Komplektatsiya, OOO, a.k.a., the following two aliases: —Gazprom Komplektatsiya; and —Obshchestvo S Ogranichennoi Otvetstvennostyu `Gazprom Komplektatsiya'. 8 Korp. 1 ul.Stroitelei, Moscow 119991, Russia. | For all items subject to the EAR when used in projects specified in § 746.5 of the EAR | See § 746.5(b) of the EAR | 81 FR [INSERT FR PAGE NUMBER] September 7, 2016.
| Gazprom Mezhregiongaz, OOO, a.k.a., the following two aliases: —Gazprom Mezhregiongaz; and —Obshchestvo S Ogranichennoi Otvetstvennostyu `Gazprom Mezhregiongaz'. d. Dom 24 korp. Liter A nab.Admirala Lazareva, St. Petersburg 197110, Russia. | For all items subject to the EAR when used in projects specified in § 746.5 of the EAR | See § 746.5(b) of the EAR | 81 FR [INSERT FR PAGE NUMBER] September 7, 2016.
| * * * * * *
| Gazprom Pererabotka, OOO, a.k.a., the following two aliases: —Gazprom Pererabotka; and —Obshchestvo S Ogranichennoi Otvetstvennostyu `Gazprom Pererabotka'. d.16 ul.Ostrovskogo, Surgut, Khanty-Mansiski Avtonomny okrug—Yugra a.o. 628417, Russia. | For all items subject to the EAR when used in projects specified in § 746.5 of the EAR | See § 746.5(b) of the EAR | 81 FR [INSERT FR PAGE NUMBER] September 7, 2016.
| Gazprom Personal, OOO, a.k.a., the following two aliases: —Gazprom Personal; and —Obshchestvo S Ogranichennoi Otvetstvennostyu `Gazprom Personal'. 16, Gsp-7 ul.Nametkina, Moscow 117997, Russia. | For all items subject to the EAR when used in projects specified in § 746.5 of the EAR | See § 746.5(b) of the EAR | 81 FR [INSERT FR PAGE NUMBER] September 7, 2016.
| Gazprom Promgaz, AO (f.k.a., Otkrytoe Aktsionernoe Obshchestvo Gazprom Promgaz), a.k.a., the following two aliases: —Aktsionernoe Obshchestvo `Gazprom Promgaz' and —Gazprom Promgaz. d. 6 ul.Nametkina, Moscow 117420, Russia. | For all items subject to the EAR when used in projects specified in § 746.5 of the EAR | See § 746.5(b) of the EAR | 81 FR [INSERT FR PAGE NUMBER] September 7, 2016.
| Gazprom Russkaya, OOO (f.k.a., Obshchestvo S Ogranichennoi Otvetstvennostyu Kovyktneftegaz), a.k.a., the following two aliases: —Gazprom Russkaya; and —Obshchestvo S Ogranichennoi Otvetstvennostyu `Gazprom Russkaya'. 3 korp.2 ul.Varshavskaya, St. Petersburg 196128, Russia. | For all items subject to the EAR when used in projects specified in § 746.5 of the EAR | See § 746.5(b) of the EAR | 81 FR [INSERT FR PAGE NUMBER] September 7, 2016.
| Gazprom Sotsinvest, OOO (f.k.a., Gazprominvestarena OOO), a.k.a., the following two aliases: —Gazprom Sotsinvest; and —Obshchestvo S Ogranichennoi Otvetstvennostyu `Gazprom Sotsinvest'. d. 20 litera A nab.Aptekarskaya, St. Petersburg 197022, Russia. | For all items subject to the EAR when used in projects specified in § 746.5 of the EAR | See § 746.5(b) of the EAR | 81 FR [INSERT FR PAGE NUMBER] September 7, 2016.
| Gazprom Svyaz, OOO, a.k.a., the following two aliases: —Gazprom Svyaz; and Obshchestvo S Ogranichennoi Otvetstvennostyu `Gazprom Svyaz'. d.16 ul.Nametkina, Moscow 117997, Russia. | For all items subject to the EAR when used in projects specified in § 746.5 of the EAR | See § 746.5(b) of the EAR | 81 FR [INSERT FR PAGE NUMBER] September 7, 2016.
| Gazprom Telekom, OOO (f.k.a., Zakrytoe Aktsionernoe Obshchestvo Gaztelekom), a.k.a., the following two aliases: —Gazprom Telecom; and —Obshchestvo S Ogranichennoi Otvetstvennostyu `Gazprom Telekom'. d. 62 str. 2 shosse Starokaluzhskoe, Moscow 117630, Russia. | For all items subject to the EAR when used in projects specified in § 746.5 of the EAR | See § 746.5(b) of the EAR | 81 FR [INSERT FR PAGE NUMBER] September 7, 2016.
| Gazprom Transgaz Kazan, OOO, a.k.a., the following two aliases: —Gazprom Transgaz Kazan; and —Obshchestvo S Ogranichennoi Otvetstvennostyu `Gazprom Transgaz Kazan'. d.41 ul.Adelya Kutuya, Kazan, Tatarstan resp 420073, Russia. | For all items subject to the EAR when used in projects specified in § 746.5 of the EAR | See § 746.5(b) of the EAR | 81 FR [INSERT FR PAGE NUMBER] September 7, 2016.
| Gazprom Transgaz Krasnodar, OOO, a.k.a., the following two aliases: —Gazprom Transgaz Krasnodar; and —Obshchestvo S Ogranichennoi Otvetstvennostyu `Gazprom Transgaz Krasnodar'. d.36 ul.Im Dzerzhinskogo, Krasnodar, Krasnodarski krai 350051, Russia. | For all items subject to the EAR when used in projects specified in § 746.5 of the EAR | See § 746.5(b) of the EAR | 81 FR [INSERT FR PAGE NUMBER] September 7, 2016.
| Gazprom Transgaz Makhachkala, OOO (f.k.a., Obshchestvo S Ogranichennoi Otvetstvennostyu Gazprom Transgaz Makhachkala), a.k.a., the following two aliases: —Gazprom Transgaz Makhachkala; and —Obshchestvo S Ogranichennoi Otvetstvennostyu `Gazprom Transgaz Makhachkala'.ul.O.Bulacha, Makhachkala, Dagestan resp. 367030, Russia. | For all items subject to the EAR when used in projects specified in § 746.5 of the EAR | See § 746.5(b) of the EAR | 81 FR [INSERT FR PAGE NUMBER] September 7, 2016.
| —Gazprom Transgaz Nizhny Novgorod; and —Obshchestvo S Ogranichennoi Otvetstvennostyu `Gazprom Transgaz Nizhni Novgorod'. d.11 ul.Zvezdinka, Nizhni Novgorod, Nizhegorodskaya obl. 603950, Russia. Gazprom Transgaz Nizhni Novgorod, OOO, a.k.a., the following two aliases: | For all items subject to the EAR when used in projects specified in § 746.5 of the EAR | See § 746.5(b) of the EAR | 81 FR [INSERT FR PAGE NUMBER] September 7, 2016.
| Gazprom Transgaz Samara, OOO, a.k.a., the following two aliases: —Gazprom Transgaz Samara; and —Obshchestvo S Ogranichennoi Otvetstvennostyu `Gazprom Transgaz Samara'. d. 106 A str. 1 ul.Novo-Sadovaya, Samara, Samarskaya obl. 443068, Russia. | For all items subject to the EAR when used in projects specified in § 746.5 of the EAR | See § 746.5(b) of the EAR | 81 FR [INSERT FR PAGE NUMBER] September 7, 2016.
| Gazprom Transgaz Sankt-Peterburg, OOO, a.k.a., the following two aliases: —Gazprom Transgaz Saint Petersburg; and —Obshchestvo S Ogranichennoi Otvetstvennostyu `Gazprom Transgaz Sankt-Peterburg'. 3 korp.2 ul.Varshavskaya, St. Petersburg 196128, Russia. | For all items subject to the EAR when used in projects specified in § 746.5 of the EAR | See § 746.5(b) of the EAR | 81 FR [INSERT FR PAGE NUMBER] September 7, 2016.
| Gazprom Transgaz Saratov, OOO, a.k.a., the following two aliases: —Gazprom Transgaz Saratov; and —Obshchestvo S Ogranichennoi Otvetstvennostyu `Gazprom Transgaz Saratov'. d.118 A prospekt Im 50 Let Oktyabrya, Saratov, Saratovskaya obl. 410052, Russia. | For all items subject to the EAR when used in projects specified in § 746.5 of the EAR | See § 746.5(b) of the EAR | 81 FR [INSERT FR PAGE NUMBER] September 7, 2016.
| Gazprom Transgaz Stavropol, OOO, a.k.a., the following two aliases: —Gazprom Transgaz Stavropol; and —Obshchestvo S Ogranichennoi Otvetstvennostyu `Gazprom Transgaz Stavropol'. d.6 prospekt Oktyabrskoi Revolyutsii, Stavropol, Stavropolski krai 355000, Russia. | For all items subject to the EAR when used in projects specified in § 746.5 of the EAR | See § 746.5(b) of the EAR | 81 FR [INSERT FR PAGE NUMBER] September 7, 2016.
| Gazprom Transgaz Surgut, OOO, a.k.a., the following two aliases: —Gazprom Transgaz Surgut; and —Obshchestvo S Ogranichennoi Otvetstvennostyu `Gazprom Transgaz Surgut'. d.1 ul.Universitetskaya, Surgut, Khanty-Mansiski Avtonomny okrug—Yugra a.o. 628406, Russia. | For all items subject to the EAR when used in projects specified in § 746.5 of the EAR | See § 746.5(b) of the EAR | 81 FR [INSERT FR PAGE NUMBER] September 7, 2016.
| Gazprom Transgaz Tomsk, OOO, a.k.a., the following two aliases: —Gazprom Transgaz Tomsk; and —Obshchestvo S Ogranichennoi Otvetstvennostyu `Gazprom Transgaz Tomsk'. d.9 prospekt Frunze, Tomsk, Tomskaya obl. 634029, Russia. | For all items subject to the EAR when used in projects specified in § 746.5 of the EAR | See § 746.5(b) of the EAR | 81 FR [INSERT FR PAGE NUMBER] September 7, 2016.
| Gazprom Transgaz Ufa, OOO (f.k.a., Obshchestvo S Ogranichennoi Otvetstvennostyu Bashtransgaz Otkrytogo Aktsionernogo Obshchestva Gazprom), a.k.a., the following two aliases: —Gazprom Transgaz Ufa; and —Obshchestvo S Ogranichennoi Otvetstvennostyu `Gazprom Transgaz Ufa'. 59 ul.Rikharda Zorge, Ufa, Bashkortostan resp. 450054, Russia. | For all items subject to the EAR when used in projects specified in § 746.5 of the EAR | See § 746.5(b) of the EAR | 81 FR [INSERT FR PAGE NUMBER] September 7, 2016.
| Gazprom Transgaz Ukhta, OOO, a.k.a., the following two aliases: —Gazprom Transgaz Ukhta; and —Obshchestvo S Ogranichennoi Otvetstvennostyu `Gazprom Transgaz Ukhta'. d.39/2 prospekt Lenina, Ukhta, Komi resp 169312, Russia. | For all items subject to the EAR when used in projects specified in § 746.5 of the EAR | See § 746.5(b) of the EAR | 81 FR [INSERT FR PAGE NUMBER] September 7, 2016.
| Gazprom Transgaz Volgograd, OOO, a.k.a., the following two aliases: —Gazprom Transgaz Volgograd; and —Obshchestvo S Ogranichennoi Otvetstvennostyu `Gazprom Transgaz Volgograd'. 58 ul.Raboche-Krestyanskaya, Volgograd, Volgogradskaya obl. 400074, Russia. | For all items subject to the EAR when used in projects specified in § 746.5 of the EAR | See § 746.5(b) of the EAR | 81 FR [INSERT FR PAGE NUMBER] September 7, 2016.
| Gazprom Transgaz Yugorsk, OOO (f.k.a., Obshchestvo S Ogranichennoi Otvetstvennostyu Tyumentransgaz), a.k.a., the following two aliases: —Gazprom Transgaz Yugorsk; and —Obshchestvo S Ogranichennoi Otvetstvennostyu `Gazprom Transgaz Yugorsk'. d.15 ul.Mira, Yugorsk, Khanty-Mansiski Avtonomny okrug, Yugra a.o. 628260, Russia. | For all items subject to the EAR when used in projects specified in § 746.5 of the EAR | See § 746.5(b) of the EAR | 81 FR [INSERT FR PAGE NUMBER] September 7, 2016.
| Gazprom Tsentrremont, OOO, a.k.a., the following two aliases: —Gazprom Tsentrremont; and —Obshchestvo S Ogranichennoi Otvetstvennostyu `Gazprom Tsentrremont'. d.1 ul.Moskovskaya, Shchelkovo, Moskovskaya obl 141112, Russia. | For all items subject to the EAR when used in projects specified in § 746.5 of the EAR | See § 746.5(b) of the EAR | 81 FR [INSERT FR PAGE NUMBER] September 7, 2016.
| Gazprom Vniigaz, OOO, a.k.a., the following two aliases: —Gazprom Vniigaz; and —Obshchestvo S Ogranichennoi Otvetstvennostyu `Nauchno-Issledovatelski Institut Prirodnykh Gazov I Gazovykh Tekhnologi—Gazprom Vniigaz'. P Razvilka, Leninski Raion, Moskovskaya obl. 142717, Russia. | For all items subject to the EAR when used in projects specified in § 746.5 of the EAR | See § 746.5(b) of the EAR | 81 FR [INSERT FR PAGE NUMBER] September 7, 2016.
| * * * * * *
| Joint Stock Company Angstrem, Angstrem-M, Dom 4, Stroennie 3, Proezd 4806, Zelenograd, Russia 124460. | For all items subject to the EAR. (See § 744.11 of the EAR) | Presumption of denial | 81 FR [INSERT FR PAGE NUMBER] September 7, 2016.
| Joint Stock Company Angstrem-T, Dom 7, Georgievskiy Prospekt, Zelenograd, Russia 124460. | For all items subject to the EAR. (See § 744.11 of the EAR) | Presumption of denial | 81 FR [INSERT FR PAGE NUMBER] September 7, 2016.
| * * * * * *
| Joint Stock Company Foreign Economic Association (FEA) Radioexport, 8 Ukrainksi Boulevard, Moscow, Russia, 121059. | For all items subject to the EAR. (See § 744.11 of the EAR) | Presumption of denial | 81 FR [INSERT FR PAGE NUMBER] September 7, 2016.
| * * * * * *
| Joint Stock Company Mikron, a.k.a., the following one alias: —NIIME and Mikron. 1st Zapadny Proezd 12/1, Zelenograd, Russia 124460. | For all items subject to the EAR. (See § 744.11 of the EAR) | Presumption of denial | 81 FR [INSERT FR PAGE NUMBER] September 7, 2016.
| * * * * * *
| Joint Stock Company Perm Scientific Industrial Instrument-Making Company (PNPPK), 25th of October Street, Number 106, Perm, Russia 614990. | For all items subject to the EAR. (See § 744.11 of the EAR) | Presumption of denial | 81 FR [INSERT FR PAGE NUMBER] September 7, 2016.
| Joint Stock Company Research and Production Company Micran, 51d Kirova Street, Tomsk, Russia 634041; and 2/5/4 Building 3 Slavyanskaya Square, Moscow, Russia 109074. | For all items subject to the EAR. (See § 744.11 of the EAR) | Presumption of denial | 81 FR [INSERT FR PAGE NUMBER] September 7, 2016.
| * * * * * *
| Kamchatgazprom, OAO, a.k.a., the following two aliases: —Kamchatgazprom; and —Otkrytoe Aktsionernoe Obshchestvo `Kamchatgazprom'. d.19 ul.Pogranichnaya, Petropavlovsk-Kamchatski, Kamchatski krai 683032, Russia. | For all items subject to the EAR when used in projects specified in § 746.5 of the EAR | See § 746.5(b) of the EAR | 81 FR [INSERT FR PAGE NUMBER] September 7, 2016.
| * * * * * *
| Krasnoyarskgazprom, PAO, a.k.a., the following two aliases: —Krasnoyarskgazprom; and —Publichnoe Aktsionernoe Obshchestvo `Krasnoyarskgazprom. d.1 pl.Akademika Kurchatova, Moscow 123182, Russia. | For all items subject to the EAR when used in projects specified in § 746.5 of the EAR | See § 746.5(b) of the EAR | 81 FR [INSERT FR PAGE NUMBER] September 7, 2016.
| Lazurnaya, OOO, a.k.a., the following two aliases: —Obshchestvo S Ogranichennoi Otvetstvennostyu `Lazurnaya'; and —“Lazurnaya”. d.103 prospekt Kurortny, Sochi, Krasnodarski krai 354024, Russia. | For all items subject to the EAR when used in projects specified in § 746.5 of the EAR | See § 746.5(b) of the EAR | 81 FR [INSERT FR PAGE NUMBER] September 7, 2016.
| LLC Koksokhimtrans, a.k.a., the following one alias: —Koksokhimtrans Ltd. Rakhmanovskiy lane, 4, bld.1, Morskoy House, Moscow 127994, Russia. | For all items subject to the EAR. (See § 744.11 of the EAR) | Presumption of denial | 81 FR [INSERT FR PAGE NUMBER] September 7, 2016.
| * * * * * *
| Niigazekonomika, OOO, a.k.a., the following two aliases: —Niigazeconomika; and —Obshchestvo S Ogranichennoi Otvetstvennostyu `Nauchnoissledovatelski Institut Ekonomiki I Organizatsii Upravleniya V Gazovoipromyshlennosti'. d. 20 korp. 8 ul. Staraya Basmannaya, Moscow 107066, Russia. | For all items subject to the EAR when used in projects specified in § 746.5 of the EAR | See § 746.5(b) of the EAR | 81 FR [INSERT FR PAGE NUMBER] September 7, 2016.
| * * * * * *
| NPC Granat, 22 Polytechnicheskaya Street, Saint Petersburg, Russia 194021. | For all items subject to the EAR. (See § 744.11 of the EAR) | Presumption of denial | 81 FR [INSERT FR PAGE NUMBER] September 7, 2016.
| OAO Ship Repair Center `Zvezdochka', a.k.a., the following four aliases: —`Zvezdochka' Shipyard; —AO Ship Repair Center `Zvezdochka'; | For all items subject to the EAR. (See § 744.11 of the EAR) | Presumption of denial | 81 FR [INSERT FR PAGE NUMBER] September 7, 2016.
| —Joint Stock Company Ship Repair Center `Zvezdochka;' and
| —Ship Repair Center Zvezdochka. 12, proyezd Mashinostroiteley, Severodvinsk, Arkhangelskaya Oblast 164509, Russia (See alternate address in Crimea region of Ukraine).
| * * * * * *
| OJSC Sovfracht, a.k.a., the following three aliases: —PJSC `Sovfracht'; —Sovfracht JSC; and | For all items subject to the EAR. (See § 744.11 of the EAR) | Presumption of denial | 81 FR [INSERT FR PAGE NUMBER] September 7, 2016.
| —Sovfrakht. Rakhmanovskiy lane, 4, bld.1, Morskoy House, Moscow 127994, Russia.
| * * * * * *
| OOO `DSK', a.k.a., the following one alias: —OOO `Dorozhnaya Stroitelnaya Kompania'.' Stroitelnaya Street, 34, village of Kesova Gora, Tver Oblast 171470, Russia. | For all items subject to the EAR. (See § 744.11 of the EAR) | Presumption of denial | 81 FR [INSERT FR PAGE NUMBER] September 7, 2016.
| OOO `STG-EKO', a.k.a., the following one alias: —`STG-EKO' LLC. Street Zastavskaya Building 22, Part A, Saint Petersburg 196084, Russia. | For all items subject to the EAR. (See § 744.11 of the EAR) | Presumption of denial | 81 FR [INSERT FR PAGE NUMBER] September 7, 2016.
| * * * * * *
| PJSC Mostotrest, a.k.a., the following four aliases: —Mostotrest; —Mostotrest, PAO; | For all items subject to the EAR. (See § 744.11 of the EAR) | Presumption of denial | 81 FR [INSERT FR PAGE NUMBER] September 7, 2016.
| —Open Joint Stock Company `Mostotrest'; and
| —Public Joint Stock Company Mostotrest. 6 Barklaya str., bld. 5, Moscow 121087, Russia; and d. 6 str. 5, ul. Barklaya, Moscow 121087, Russia.
| * * * * * *
| Salvation Committee of Ukraine, a.k.a., the following three aliases: —Committee for the Rescue of Ukraine; —Savior of Ukraine Committee; and | For all items subject to the EAR. (See § 744.11 of the EAR) | Presumption of denial | 81 FR [INSERT FR PAGE NUMBER] September 7, 2016.
| —Ukraine Salvation Committee. Russia.
| * * * * * *
| SGM Most OOO (f.k.a., Obshchestvo S Ogranichennoi Otvetstvennostyu SGM Most), a.k.a., the following three aliases: —Obshchestvo S Ogranichennoi Otvetstvennostyu `SGM-Most'; | For all items subject to the EAR. (See § 744.11 of the EAR) | Presumption of denial | 81 FR [INSERT FR PAGE NUMBER] September 7, 2016.
| —SGM-Bridge; and
| —SGM-Most, LLC. d. 10 korp. 3 ul. Neverovskogo, Moscow 121170, Russia.
| SMT-K, a.k.a., the following six aliases: —KRYM SMT OOO LLC; —LLC CMT Crimea; —OOO `CMT-K'; | For all items subject to the EAR. (See § 744.11 of the EAR) | Presumption of denial | 81 FR [INSERT FR PAGE NUMBER] September 7, 2016.
| —OOO `SMT-K';
| —SMT-Crimea; and
| —Sovmortrans-Crimea. Anapskoye Highway 1, Temryuk, Russia (See alternate address under Crimea region of Ukraine).
| * * * * * *
| Sovfracht Managing Company, LLC, a.k.a., the following four aliases: —LLC Sovfracht Management Company; —Management Company Sovfrakht Ltd.; | For all items subject to the EAR. (See § 744.11 of the EAR) | Presumption of denial | 81 FR [INSERT FR PAGE NUMBER] September 7, 2016.
| —Sovfracht Management Company; and
| —Sovfracht Management Company, LLC. Dobroslobodskaya, 3 BC Basmanov, Moscow 105066, Russia.
| Sovfracht-Sovmortrans Group, a.k.a., the following two aliases: —Sovfracht-Sovmortrans; and —Sovfrakht-Sovmortrans. Rakhmanovskiy Lane, 4, bld.1, Morskoy House, Moscow 127994, Russia; and Dobroslobodskaya, 3 BC Basmanov, Moscow 105066, Russia. | For all items subject to the EAR. (See § 744.11 of the EAR) | Presumption of denial | 81 FR [INSERT FR PAGE NUMBER] September 7, 2016.
| * * * * * *
| Technopole Company, 5-183 Entuziastov Street, Dubna, Moscow Region, Russia 141980; and 12 Aviamotornaya Street, Moscow, Russia 111024. | For all items subject to the EAR. (See § 744.11 of the EAR) | Presumption of denial | 81 FR [INSERT FR PAGE NUMBER] September 7, 2016.
| * * * * * *
| Vostokgazprom, OAO, a.k.a., the following two aliases: —Otkrytoe Aktsionernoe Obshchestvo `Vostokgazprom'; and —Vostokgazprom. d.73 ul.Bolshaya Podgornaya, Tomsk, Tomskaya obl. 634009, Russia. | For all items subject to the EAR when used in projects specified in § 746.5 of the EAR | See § 746.5(b) of the EAR | 81 FR [INSERT FR PAGE NUMBER] September 7, 2016.
| * * * * * *
| Yamalgazinvest, ZAO, a.k.a., the following two aliases: —Yamalgazinvest; and —Zakrytoe Aktsionernoe Obshchestvo `Yamalgazinvest'. d. 41 korp. 1 prospekt Vernadskogo, Moscow 117415, Russia. | For all items subject to the EAR when used in projects specified in § 746.5 of the EAR | See § 746.5(b) of the EAR | 81 FR [INSERT FR PAGE NUMBER] September 7, 2016.
* * * * * * *

Dated: September 1, 2016.
Eric L. Hirschhorn,
Under Secretary of Commerce for Industry and Security.

[FR Doc. 2016-21431 Filed 9-6-16; 8:45 am]

BILLING CODE 3510-33-P